ENVIRONMENTAL PROTECTION AGENCY

[FRL-9942-45-OEI]

Agency Information Collection Activities OMB Responses

AGENCY: Environmental Protection Agency (EPA).

ACTION: Notice.

SUMMARY: This document announces the Office of Management and Budget (OMB) responses to Agency Clearance requests, in compliance with the Paperwork Reduction Act (44 U.S.C. 3501 et seq.). An agency may not conduct or sponsor, and a person is not required to respond to, a collection of information unless it displays a currently valid OMB control number. The OMB control numbers for EPA regulations are listed in 40 CFR part 9 and 48 CFR chapter 15.

FOR FURTHER INFORMATION CONTACT: Courtney Kerwin (202) 566-1669, or email at kerwin.courtney@epa.gov and please refer to the appropriate EPA Information Collection Request (ICR) Number.

SUPPLEMENTARY INFORMATION:

OMB Responses to Agency Clearance Requests

OMB Approvals

EPA ICR Number 2031.08; Protection of Stratospheric Ozone: Request for Applications from Critical Use Exemption for the Phase out of Methyl Bromide (Renewal); 40 CFR part 82; was approved with change on 8/4/2015; OMB Number 2060-0482; expires on 8/31/2018.

EPA ICR Number 2207.06; Exchange Network Grants Progress Reports (Renewal); 2 CFR parts 200 and 1500; was approved without change on 8/4/2015; OMB Number 2025-0006; expires on 8/31/2018.

EPA ICR Number 2183.06; Drug Testing for Contractor Employees (Renewal); 5 CFR parts 731, 732 and 736; was approved without change on 8/4/2015; OMB Number 2030-0044; expires on 8/31/2018.

EPA ICR Number 2159.06; Background Checks for Contractor Employees (Renewal); 5 CFR parts 731, 732 and 736; was approved without change on 8/4/2015; OMB Number 2030-0043; expires on 8/31/2018.

EPA ICR Number 2494.01; Survey of the Public and Commercial Building Industry (New); was approved without change on 8/5/2015; OMB Number 2070-0193; expires on 8/31/2018.

EPA ICR Number 1250.10; Request for Contractor Access to TSCA Confidential Business Information (CBI); 15 CFR part 2613; was approved without change on 8/11/2015; OMB Number 2070-0075; expires on 8/31/2018.

EPA ICR Number 1365.10; Asbestos-Containing Materials in Schools and Asbestos Model Accreditation Plans (Renewal); 40 CFR part 763 subpart E appendix C, 40 CFR part 763 subpart E; was approved without change on 8/17/2015; OMB Number 2070-0091; expires on 8/31/2018.

EPA ICR Number 2403.03; EG for Sewage Sludge Incinerators (Renewal); 40 CFR part 60, subparts A and MMMM; was approved without change on 8/18/2015; OMB Number 2060-0661; expires on 8/31/2015.

EPA ICR Number 2025.06; NESHAP for Friction Materials Manufacturing (Renewal); 40 CFR part 63, subpart QQQQQ and 40 CFR part 63, subpart A; was approved without change on 8/18/2015; OMB Number 2060-0481; expires on 8/31/2018.

EPA ICR Number 1284.10; NSPS for Polymeric Coating of Supporting Substrates Facilities (Renewal); 40 CFR part 60, subparts VVV and A; was approved without change on 8/18/2015; OMB Number 2060-0181; expires on 8/31/2018.

EPA ICR Number 1643.08; Application Requirements for the Approval and Delegation of Federal Air Toxics Programs to State, Territorial, Local, and Tribal Agencies (Renewal); 40 CFR part 63, subpart E; was approved without change on 8/18/2015; OMB Number 2060-0264; expires on 8/31/2018.

EPA ICR Number 2303.04; NESHAP for Ferroalloys Production Area Sources (Renewal); 40 CFR part 63, subpart YYYYYY and subpart A; was approved with change on 8/18/2015; OMB Number 2060-0625; expires on 8/31/2018.

EPA ICR Number 2014.06; Reporting and Recordkeeping Requirements of the HCFC Allowance System (Change); 40 CFR part 82, subpart A; was approved without change on 8/18/2015; OMB Number 2060-0498; expires on 4/30/2016.

EPA ICR Number 2466.01; Revisions to the Total Coliform Rule (Final Rule) (Revision); 40 CFR parts 141 and 142; was approved without change on 8/18/2015; OMB Number 2040-0288; expires on 8/31/2018.

EPA ICR Number 1789.09; NESHAP for Natural Gas Transmission and Storage (Renewal); 40 CFR part 63, subparts HHH and A; was approved without change on 8/19/2015; OMB Number 2060-0418; expires on 8/31/2018.

EPA ICR Number 1684.18; Emissions Certification and Compliance Requirements for Nonroad Compression-Ignition Engines and On-Highway Heavy Duty Engines (Renewal); 40 CFR part 63, subpart YYYYYY; 40 CFR part 1042, subparts C, D, G and H; 40 CFR parts 85, 86, 89, 94, 1027, 1039, 1042, 1045, 1060, 1065, and 1068; was approved with change on 8/20/2015; OMB Number 2060-0287; expires on 8/31/2018.

EPA ICR Number 1051.13; NSPS for Portland Cement Plants (Renewal); 40 CFR part 40, subparts A and F; was approved without change on 8/21/2015; OMB Number 2060-0025; expires on 8/31/2018.

EPA ICR Number 0276.15; Experimental Use Permits (EUPs) for Pesticides (Renewal); 40 CFR part 172; was approved without change on 8/21/2015; OMB Number 2070-0040; expires on 8/31/2018.

EPA ICR Number 2455.02; Revision to the Export Provisions of the Cathode Ray Tube (CRT) Rule (Final Rule); 40 CFR part 261; was approved without change on 8/21/2015; OMB Number 2050-0208; expires on 8/31/2018.

EPA ICR Number 1630.12; Oil Pollution Act Facility Response Plans (Renewal); 40 CFR parts 112.20, 112.21, and 40 CFR part 112, subpart D; was approved without change on 8/21/2015; OMB Number 2050-0135; expires on 8/31/2018.

EPA ICR Number 0664.11; NSPS for Bulk Gasoline Terminals (Renewal); 40 CFR part 60, subparts XX and A; was approved without change on 8/24/2015; OMB Number 2060-0006; expires on 8/31/2018.

Comment Filed

EPA ICR Number 2517.01; Proposed Rule Related Addendum to the Existing EPA ICR Entitled: Chemical-Specific Rules; Toxic Substances Control Act Section 8(a) (Proposed Rule); 40 CFR part 704; OMB filed comment on 8/21/2015.

EPA ICR Number 2394.04; Greenhouse Gas Emissions and Fuel Efficiency Standards (Proposed Rule for Medium- and Heavy-Duty Engines and Vehicles—Phase 2); 40 CFR parts 1043, 1065, 1066, 1068, 22, 600, 85, 86, 1033, 1036, 1037, 1039, 1042, 523, 5234, 534 and 535; OMB filed comment on 8/21/2015.

EPA ICR Number 2506.01; Carbon Pollution Standards for Modified and Reconstructed Stationary Sources: Electric Utility Generating Units; 40 CFR part 60, subpart TTTT; OMB filed comment on 8/24/2015.

Courtney Kerwin,
Acting Director, Collections Strategies Division.

[FR Doc. 2016-03149 Filed 2-12-16; 8:45 am]

BILLING CODE 6560-50-P